POSTAL SERVICE

39 CFR Part 111

Plus One Permanent Product

AGENCY: Postal Service™.

ACTION: Final rule.

SUMMARY: On November 10, 2021, the Postal Service (USPS®) filed a notice of intent to implement Plus One as a permanent product with the Postal Regulatory Commission (PRC), effective January 9, 2022. This final rule contains the revisions to Mailing Standards of the United States Postal Service, Domestic Mail Manual (DMM®) to adopt Plus One mailpiece as a permanent product.

DATES: Effective date: January 9, 2022.

FOR FURTHER INFORMATION CONTACT: Elke Reuning-Elliott at (202) 268-4068 or Jacqueline Erwin at (202) 268-2158.

SUPPLEMENTARY INFORMATION: On November 10, 2021, the Postal Service filed a request to add Plus One as a new permanent product offering to USPS Marketing Mail saturation letters as a new optional feature. The Postal Service conducted a two-year market test of Plus One, beginning September 2019.

Plus One is an advertising card mailed as an add-on mailpiece with a USPS Marketing Mail letters marriage mail envelope. The host mailpiece must be mailed as a commercial automation USPS Marketing Mail saturation marriage mail letter, with a minimum of 90 percent of the mailing being saturation sorted. The remaining 10 percent must be USPS Marketing Mail high density and/or high density plus letters. All mailpieces must be entered at the destinating sectional center facility, SCF, and the Plus One add-on card must be part of the same mailing as the host piece, addressed to the same delivery points.

On January 4, 2022, the PRC favorably reviewed the addition of Plus One as a permanent Market Dominant product proposed by the Postal Service. The price and DMM revisions are scheduled to become effective on January 9, 2022. Final product information is available under Docket No. MC2022-20 (Order No. 6081) on the Postal Regulatory Commission's website at www.prc.gov.

* * * * *

List of Subjects in 39 CFR Part 111

Administrative practice and procedure, Postal Service.

The Postal Service adopts the following changes to Mailing Standards of the United States Postal Service, Domestic Mail Manual (DMM), incorporated by reference in the Code of Federal Regulations. See 39 CFR 111.1.

We will publish an appropriate amendment to 39 CFR part 111 to reflect these changes.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise the Mailing Standards of the United States Postal Service, Domestic Mail Manual (DMM) as follows:

Mailing Standards of the United States Postal Service, Domestic Mail Manual (DMM)

* * * * *

200 Commercial Letters, Flats, and Parcels Design Standards

* * * * *

204 Barcode Standards

* * * * *

3.0 Standards for Barcoded Tray Labels, Sack Labels, and Container Labels

* * * * *

3.2 Specifications for Barcoded Tray and Sack Labels

* * * * *

3.2.4 3-Digit Content Identifier Numbers

Exhibit 3.2.4 3-Digit Content Identifier Numbers

CLASS AND MAILING

* * * * *

[Revise Exhibit 3.2.4; to read as follows:]

USPS MARKETING MAIL

ECR Letters—Barcoded

saturation price—(including Plus One) high density or high density plus price—(including Plus One)

* * * * *

600 Basic Standards for All Mailing Services

* * * * *

602 Addressing

* * * * *

[Add new section 11.0 to 602; to read as follows:]

11.0 Commercial Plus One Mailpieces

11.1 General

11.1.1 Definition

The commercial mail Plus One product is a bundled offering consisting of a host mailpiece and a Plus One card. Both the host mailpiece and the Plus One card must meet the applicable basic standards of a USPS Marketing mail saturation letter in 245.6.0, be entered at a destination sectional center facility (DSCF), and meet automation standards with a correct mailing address and intelligent mail barcode, (IMb). The Plus One mailpiece (card) must meet the following additional standards:

• Have at least a six-month relationship with the host mailer.

• Be addressed to the same delivery points as the host mailpiece.

• Be sorted and presented separately from the host piece.

• Must not exceed 6 inches long by 9.5 inches high.

• Must be at least 0.009 inches thick, card stock.

• Must have “Plus One” marking directly below Permit indicia.

11.1.2 Mail Preparation

Each Plus One mailing must be trayed and labeled according to 245.6.7. Palletized mailings must be prepared according to 705.8.10.3.

11.1.3 Documentation

When requested by USPS, Plus One mailpiece mailers must provide standardized documentation according to 203.3.0, to establish that the applicable distribution standards are met. Spoilage of host pieces may affect eligibility to mail Plus One pieces in the following manner:

a. File must show that at least 90% of host pieces are saturation mail, the remainder may be high density or high density plus.

b. The total number of Plus One pieces must be less than or equal to the number of host pieces.

11.1.4 Extra Services

Items mailed with Plus One mailpieces may not be combined with any extra service.

* * * * *

Notice 123 (Price List)

[Revise prices as applicable.]

* * * * *

Ruth B. Stevenson,
Chief Counsel, Ethics and Legal Compliance.

[FR Doc. 2022-00396 Filed 1-7-22; 11:15 am]

BILLING CODE P